COMMITTEE FOR PURCHASE FROM PEOPLE WHO ARE BLIND OR SEVERELY DISABLED

Procurement List; Deletions

AGENCY: Committee for Purchase From People Who Are Blind or Severely Disabled.

ACTION: Deletions from the Procurement List.

SUMMARY: The Committee is proposing to delete services from the Procurement List that were previously furnished by nonprofit agencies employing persons who are blind or have other severe disabilities.

DATES: Effective Date: 8/21/2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION:

Deletions

On 6/17/2016 (81 FR 39630), the Committee for Purchase From People Who Are Blind or Severely Disabled published notice of proposed deletions from the Procurement List.

After consideration of the relevant matter presented, the Committee has determined that the services listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 U.S.C. 8501-8506) in connection with the services deleted from the Procurement List.

End of Certification

Accordingly, the following services are deleted from the Procurement List:

Services

Service Types: Library Service

Mandatory for: Travis Air Force Base, Travis Air Force Base, CA

Beale Air Force Base, Beale Air Force Base, CA

Mandatory Source(s) of Supply: PRIDE Industries, Roseville, CA

Contracting Activity: Dept of the Air Force, FA7014 AFDW PK, Andrews AFB, MD

Service Type: Family Housing Maintenance Service

Mandatory for: Travis Air Force Base, Travis AFB, CA

Mandatory Source(s) of Supply: PRIDE Industries, Roseville, CA

Contracting Activity: Dept of the Air Force, FA7014 AFDW PK, Andrews AFB, MD

Service Type: Baggage Inspection Service

Mandatory for: Travis Air Force Base: Air Passenger Terminal, Travis Air Force Base, CA

Mandatory Source(s) of Supply: PRIDE Industries, Roseville, CA

Contracting Activity: Dept of the Air Force, FA7014 AFDW PK, Andrews AFB, MD

Service Type: Furnishings Management Service

Mandatory for: Travis Air Force Base, Travis Air Force Base, CA

Mandatory Source(s) of Supply: Pacific Coast Community Services, Richmond, CA

Contracting Activity: Dept of the Air Force, FA7014 AFDW PK, Andrews AFB, MD

Service Type: Linen Service

Mandatory for: Hickam Air Force Base, Hickam Air Force Base, HI

Mandatory Source(s) of Supply: Network Enterprises, Inc., Honolulu, HI

Contracting Activity: Dept of the Air Force, FA7014 AFDW PK, Andrews AFB, MD

Service Type: Facilities Management Service

Mandatory for: Television Audio Support Activity (TASA), McClellan AFB, CA

Mandatory Source(s) of Supply: PRIDE Industries, Roseville, CA

Contracting Activity: Dept of the Air Force, FA7014 AFDW PK, Andrews AFB, MD

Service Type: Repair of Air Cargo Top & Side Nets Service

Mandatory for: Travis Air Force Base, Travis AFB, CA

Mandatory Source(s) of Supply: Fontana Resources at Work, Fontana, CA

Contracting Activity: Dept of the Air Force, FA7014 AFDW PK, Andrews AFB, MD

Barry S. Lineback,
Director, Business Operations.

[FR Doc. 2016-17389 Filed 7-21-16; 8:45 am]

BILLING CODE 6353-01-P